DEPARTMENT OF ENERGY

Federal Energy Regulatory Commission

[Docket No. CP01-361-000]

Northwest Pipeline Corporation; Notice of Site Visit

August 3, 2001.

On August 13 through August 17, 2001, the Office of Energy Projects staff and representatives of Northwest Pipeline Corporation, will conduct a site visit of the proposed facilities of the Grays Harbor Pipeline Project 2001 in Thurston and Grays Harbor Counties, Washington.

All interested parties may attend. Those planning to attend must provide their own transportation.

For further information, please contact the Office of External Affairs at (202) 208-1088.

David P. Boergers,
Secretary.

[FR Doc. 01-19982 Filed 8-8-01; 8:45 am]

BILLING CODE 6717-01-P